DEPARTMENT OF TRANSPORTATION

Maritime Administration

MARAD Mariner Workforce Strategic Plan for Fiscal Years 2023-2027

AGENCY: Maritime Administration, Department of Transportation.

ACTION: Notice.

SUMMARY: In accordance with the requirements of the Fiscal Year (FY) 2021 National Defense Authorization Act (NDAA), the Maritime Administration (MARAD) has developed and published a Mariner Workforce Strategic Plan for fiscal years 2023-2027 (the Plan) to recruit, train, and retain merchant mariners. The Plan is available for review and download on MARAD's website at www.marad.dot.gov by going to the Education page (https://cms.marad.dot.gov/education/marad-mariner-workforce-strategic-plan-fy-2023-2927).

FOR FURTHER INFORMATION CONTACT: Christopher Wahler, Director, Office of Maritime Labor and Training, via electronic mail at christopher.wahler@dot.gov or by calling 202-366-5469.

SUPPLEMENTARY INFORMATION: Section 3508 of the William M. (Mac) Thornberry National Defense Authorization Act amended 46 U.S.C. chapter 517 directing MARAD to develop a 5-year strategic plan to recruit, train, and retain merchant mariners. The Plan addresses the following key points:

1. Merchant mariner recruitment,

2. Merchant mariner training,

3. Merchant mariner retention, and

4. Demonstration and research priorities concerning the previous three elements.

MARAD sought input from stakeholders including Federal agency partners, the inland towing community, and maritime labor unions. MARAD also identified strengths, weaknesses, opportunities, and threats facing the mariner workforce and structured the strategy around the following six goals:

1. Strengthen mariner workforce development programs.

2. Support mariner education and training institutions.

3. Expand mariner workforce by actively recruiting from historically underrepresented groups, thereby broadening the recruitment pipeline.

4. Ensure the availability of a skilled and sufficient mariner workforce for national security.

5. Support maritime innovation.

6. Ensure superior policy execution and stewardship of resources.

The Plan describes a comprehensive set of strategies, as well as demonstration and research priorities. In developing the Plan, MARAD considered the availability of existing research and the need to ensure results having broad applicability for U.S. Merchant Marine workforce development.

MARAD, through an inter-agency agreement with the Volpe National Transportation Systems Center developed the Plan which included extensive engagement with the maritime industry and Federal partners. The full strategic plan is posted on the MARAD website, at https://www.maritime.dot.gov/sites/marad.dot.gov/files/2024-02/MARAD%20Mariner%20Workforce%20Strategic%20Plan%20FY23-27.pdf.

Pursuant to the FY21 NDAA, the Plan will be updated every five years until such time as the Maritime Administrator determines that there is an adequate number of United States mariners for sustained strategic sealift.

Pursuant to the statute, the Department of Transportation/MARAD transmitted copies of the Plan to the Committee on Transportation and Infrastructure of the House of Representatives and to the Committee on Commerce, Science, and Transportation of the Senate.

(Authority: 46 U.S.C. 51707, 49 CFR 1.93(a))

By Order of the Maritime Administrator.
T. Mitchell Hudson, Jr.,
Secretary, Maritime Administration.

[FR Doc. 2024-06934 Filed 4-1-24; 8:45 am]

BILLING CODE 4910-81-P